DEPARTMENT OF TRANSPORTATION

Office of the Secretary

[Docket No. DOT-OST-2015-0153]

30-Day Notice of Application for New Information Collection Request

AGENCY: Office of the Secretary (OST), Department of Transportation (Department) or (DOT).

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on Aug 5, 2015 (80 FR 46646).

DATES: Comments must be submitted on or before February 8, 2016.

ADDRESSES: Your comments should be identified by Docket No. DOT-OST-2015-0153 and may be submitted through one of the following methods:

• Office of Management and Budget, Attention: Desk Officer for U.S. Department of Transportation, Office of Information and Regulatory Affairs, Office of Management and Budget, Docket Library, Room 10102, 725 17th Street NW., Washington, DC 20503.

• email: oira_submission@omb.eop.gov.

• Fax: (202) 395-5806. Attention: DOT/OST Desk Officer.

FOR FURTHER INFORMATION CONTACT: Anthony Burton, Office of Policy, Office of the Secretary, W84-230, Department of Transportation, 1200 New Jersey Avenue SE., Washington, DC 20590, (202) 366-2278 or anthony.burton@dot.gov (Email).

SUPPLEMENTARY INFORMATION: Title: Mayors' Challenge for Safer People and Safer Streets Survey.

Type of Request: Application for New Information Collection Request.

Abstract: Approximately 260 cities are voluntarily participating in the “Mayors' Challenge” and through locally-driven efforts they are improving bike/ped safety policies, infrastructure, and awareness. This survey will collect information on the accomplishments of the Mayors' Challenge, and will be used to identify best practices and to improve future DOT outreach to cities. Each city has already identified a point-of-contact for the Mayors' Challenge. This survey will be distributed electronically to these POCs through an online survey tool, and the proposed questions are attached.

Affected Public: The 260 cities that voluntarily signed up to Mayor's Challenge.

Estimated Number of Respondents: 260.

Estimated Number of Responses: 260.

Estimated Total Annual Burden Hours: 30 minutes/respondent; Cumulative 130 hours.

Frequency of Collection: Once.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. chapter 35, as amended; and 49 CFR 1:48.

Issued in Washington, DC on December 23, 2015.
Habib Azarsina,
OST Privacy and PRA Officer.

Mayors' Challenge for Safer People and Safer Streets Survey

Abstract: Approximately 260 cities are voluntarily participating in the “Mayors' Challenge” and through locally-driven efforts they are improving bike/ped safety policies, infrastructure, and awareness. This survey will collect information on the accomplishments of the Mayors' Challenge, and will be used to identify best practices and to improve future DOT outreach to cities. Each city has already identified a point-of-contact for the Mayors' Challenge. This survey will be distributed electronically to these POCs through an online survey tool.

Estimated Total Annual Burden Hours: 30 minutes/respondent; Cumulative 130 hours.

Frequency of Collection: Once.

For Further Information Contact: Anthony Burton, Office of Policy, Office of the Secretary, W84-230, Department of Transportation, 1200 New Jersey Avenue SE., Washington, DC 20590, (202) 366-2278 or anthony.burton@dot.gov (Email).

1. Which of the seven goals have you adopted, and what activities have you undertaken to meet those goals? For reference, the seven goals are:

(1) Take a Complete Streets approach;

(2) Identify and address barriers;

(3) Gather and track data;

(4) Use context-sensitive designs;

(5) Complete bike-ped networks;

(6) Improve laws and regulations; and

(7) Educate and enforce proper road use.

2. What have been the primary challenges and obstacles to bicycle and pedestrian safety in your community, and what if any actions have you taken to address these challenges and obstacles?

3. What if any changes have resulted from the challenge activities?

(1) Changes to physical infrastructure,

(2) Decision-making processes,

(3) Policies or procedures,

(4) Enforcement,

(5) Education and awareness of your community

(6) Other:

4. Please use the following table to indicate whether you have data on the impact of the Mayors' Challenge activities, and what the extent of that impact is.

| Data available? (E.g. yes/no, and if yes, type of data) | Extent of impact (E.g. number of bicyclists, compared to previous years)
event attendance |  |
survey results |  |
crash data |  |
walking and bicycle counts |  |
bike lanes, sidewalks, other infrastructure |  |
new plans, policies, laws, or campaigns |  |
other indications of political and community support |  |

5. Which DOT resources, tools, and data have been most useful in your challenge?

6. Which non-DOT resources, tools, and data have been most useful in your challenge?

7. What resources, tools, and data do you wish were available?

8. What are the most useful formats for receiving information from USDOT, and why (e.g. webinars, in-person meetings, conference calls, etc.)?

9. What efforts in your city to improve bicycle and pedestrian safety in your community were already underway at the time of the Mayors' Challenge? How has the Mayors' Challenge added value and/or helped to fill any gaps in your city's efforts to improve bicycle and pedestrian safety?

10. In planning and project delivery of pedestrian and/or bicycle infrastructure projects, to what extent has your city coordinated with your Metropolitan Planning Organization (MPO), Regional Planning Organization (RPO), State Department of Transportation (DOT), and Federal Regional/Division office partners? Please note type of outreach and coordination, and outcomes it led to.

11. What have been the key benefits and lessons learned as a result of the Mayors' Challenge?

12. Do you think the Mayors' challenge has helped make any permanent changes in pedestrian and bike safety and accommodation in your city/town?

[FR Doc. 2016-00159 Filed 1-7-16; 8:45 am]

BILLING CODE 4910-9X-P